COMMITTEE FOR PURCHASE FROM PEOPLE WHO ARE BLIND OR SEVERELY DISABLED

Procurement List Proposed Deletions

AGENCY: Committee for Purchase from People Who Are Blind or Severely Disabled.

ACTION: Proposed Addition to and Deletions from Procurement List.

SUMMARY: The Committee is proposing to delete products previously furnished by such agencies.

DATES: Comments Must Be Received On or Before: February 5, 2006.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Product/NSN: Bag, Produce, Star Bottom.

NSN: 8105-00-NIB-1046—Bag, Produce, Star Bottom.

NPA: Envision, Inc., Wichita, Kansas.

Contracting Activity: Defense Commissary Agency, Fort Lee, Virginia.

Product/NSN: Pen, Rollerball, Executive and Refill.

NSN: 7520-01-424-4882—Pen, Rollerball, Executive and Refill.

NPA: San Antonio Lighthouse for the Blind, San Antonio, Texas.

Contracting Activity: Office Supplies & Paper Products Acquisition Center, New York, NY.

Patrick Rowe,
Executive Deputy Director.

[FR Doc. E6-3 Filed 1-5-06; 8:45 am]

BILLING CODE 6353-01-P